EXPORT-IMPORT BANK OF THE UNITED STATES

Economic Impact Policy

This notice is to inform the public that the Export-Import Bank of the United States has received an application to finance the export of $25 million of U.S. goods and services to a buyer in Russia. According to the foreign buyer, the U.S. exports will enable the Russian company to produce an additional 1.2 million metric tons metallurgical coal, the entirety of which will be consumed domestically in Russia. Interested parties may submit comments on this transaction by e-mail to economic.impact@exim.gov or by mail to 811 Vermont Avenue, NW., Room 1238, Washington, DC 20571, within 14 days of the date this notice appears in the Federal Register.

Helene S. Walsh,
Director, Policy Oversight and Review.

[FR Doc. 03-1854 Filed 1-27-03; 8:45 am]

BILLING CODE 6690-01-M